DEPARTMENT OF COMMERCE

[Docket No. 130520483-3483-01]

Privacy Act New System of Records

AGENCY: Department of Commerce.

ACTION: Notice; COMMERCE/DEPT-23, Information Collected Electronically in Connection with Department of Commerce Activities, Events, and Programs.

SUMMARY: This notice announces the Department's proposal for a new system of records under the Privacy Act. The system is entitled “Information Collected Electronically in Connection with Department of Commerce Activities, Events, and Programs.” The Department is creating a new system of records that will enable electronic registration, via the Internet, for Commerce-sponsored activities, events, and programs.

DATES: Comment Date: To be considered, written comments on the proposed amended system must be submitted on or before July 5, 2013.

Effective Date: Unless comments are received, the new system of records will become effective as proposed on the date of publication of this Federal Register.

ADDRESSES: Comments may be mailed to Brenda Dolan, U.S. Department of Commerce, Herbert C. Hoover Building, Suite 300, Room A326, 1401 Constitution Avenue NW., Washington, DC 20230.

FOR FURTHER INFORMATION CONTACT: For further information, please contact, Brenda Dolan, Departmental Freedom of Information and Privacy Act Officer, 202-482-3258.

SUPPLEMENTARY INFORMATION: The purpose of this system of records is to account for the electronic collection, maintenance and use of information in connection with Department of Commerce activities, events, and programs. Such activities, events, and programs include, but are not limited to: Conferences, roundtable discussions, forums, exhibits, summits, and presentations. The records from this system will be accessible by authorized representatives from the Department of Commerce, approved contractors, and in limited instances, individuals registered to participate in Commerce activities, events, and programs. The registrants will have the ability to: Register and, if necessary, submit payment for a variety of Department of Commerce activities, events and programs; sign-up for sponsorship opportunities; schedule individual matchmaking opportunities with other participants; register to exhibit; receive email updates regarding agendas and affiliated events; and perform other functions related to the agency-sponsored activity, event, or program.

COMMERCE/DEPT-23, “Information Collected Electronically in Connection With Department of Commerce Activities, Events, and Programs.”

SYSTEM NAME:

Information Collected Electronically in Connection with Department of Commerce Activities, Events, and Programs.

SYSTEM LOCATION:

Information will be maintained electronically and under the control of the individual Departmental offices.

a. For Office of the Secretary, Chief Information Officer, 1401 Constitution Avenue NW., Washington, DC 20230.

b. For U.S. Census Bureau, Chief Information Officer, 4600 Silver Hill Road, Suitland, MD 20746.

c. For Bureau of Economic Analysis/Economic Statistics Administration, Chief Information Officer, 1401 Constitution Avenue NW., Washington, DC 20230.

d. For Economic Development Administration, Chief Information Officer, 1401 Constitution Avenue NW., Washington, DC 20230.

e. For Bureau of Industry and Security, Chief Information Officer, 1401 Constitution Avenue NW., Washington, DC 20230.

f. For International Trade Administration, Chief Information Officer, 1401 Constitution Avenue NW., Washington, DC 20230.

g. For Minority Business Development Agency, Office of the Secretary, Chief Information Officer, 1401 Constitution Avenue NW., Washington, DC 20230.

h. For National Institute of Standards and Technology, Chief Information Officer, 100 Bureau Drive, Gaithersburg, MD 20899.

i. For National Technical Information Service, Chief Information Officer, 5301 Shawnee Road, Alexandria, VA 22312

j. For National Telecommunications and Information Administration, Chief Information Officer, 1401 Constitution Avenue NW., Washington, DC 20230.

k. For National Oceanic and Atmospheric Administration, Chief Information Officer, 1305 East-West Highway, SSMC3, Silver Spring, MD 20910.

l. For U.S. Patent and Trademark Office, Chief Information Officer, 600 Dulany Street, Madison Building, Alexandria, VA 22314.

m. For Office of Inspector General, Chief Information Officer, Chief Information Officer, 1401 Constitution Avenue NW., Washington, DC 20230.

CATEGORIES OF INDIVIDUALS COVERED BY THE SYSTEM:

Individuals who have requested and/or are registered to participate in an agency-sponsored activity, event, or program.

CATEGORIES OF RECORDS IN THE SYSTEM:

Name, organization affiliation, title, address, email, and telephone number; credit card information; Web site URL; organization category and description; business function; objectives for matchmaking; sponsorship information; exhibition booth preferences; and special requirements for exhibition needs; and all other information submitted to participate in an agency-sponsored activity, program, or event.

AUTHORITY FOR MAINTENANCE OF THE SYSTEM:

5 U.S.C. App.—Inspector General Act of 1978, § 2; 5 U.S.C. App.—Reorganization Plan of 1970, § 2; 13 U.S.C. § 2; 13 U.S.C. § 131; 15 U.S.C. § 272; 15 U.S.C. § 1151; 15 U.S.C. § 1501; 15 U.S.C. § 1512; 15 U.S.C. § 1516; 15 U.S.C. § 3704b; 16 U.S.C. § 1431; 35 U.S.C. § 2; 42 U.S.C. § 3121 et seq.; 47 U.S.C. § 902; 50 U.S.C. App. § 2401 et seq.; E.O. 11625; 77 FR 49699 (Aug. 16, 1012).

ROUTINE USES OF RECORDS MAINTAINED IN THE SYSTEM, INCLUDING CATEGORIES OF USERS AND THE PURPOSES OF SUCH USES:

1. A record from this system of records may be disclosed, as a routine use, to other registrants to facilitate company/organization matchmaking. Once registered for an agency activity, event, or program, one would be able to access the following information fields: name; title; address; email address; telephone number; Web site URL; organization category and description; business function, product, or service description; and other fields capturing information related to the agency-sponsored activity, event, or program.

2. In the event that a system of records maintained by the Department to carry out its functions indicates a violation or potential violation of law or contract, whether civil, criminal or regulatory in nature, and whether arising by general statute or particular program statute or contract, or rule, regulation, or order issued pursuant thereto, or the necessity to protect an interest of the Department, the relevant records in the system of records may be referred to the appropriate agency, whether Federal, State, local or foreign, charged with the responsibility of investigating or prosecuting such violation or charged with enforcing or implementing the statute or contract, or rule, regulation or order issued pursuant thereto, or protecting the interest of the Department.

3. A record from this system of records may be disclosed in the course of presenting evidence to a court, magistrate or administrative tribunal, including disclosures to opposing counsel in the course of settlement negotiations.

4. A record in this system of records may be disclosed, as a routine use, to a Member of Congress submitting a request involving an individual when the individual has requested assistance from the Member with respect to the subject matter of the record.

5. A record in this system of records may be disclosed, as a routine use, to the Office of Management and Budget in connection with the review of private relief legislation as set forth in OMB Circular No. A-19 at any stage of the legislative coordination and clearance process as set forth in that Circular.

6. A record in this system of records may be disclosed, as routine use, to the Department of Justice in connection with determining whether disclosure thereof is required by the Freedom of Information Act (5 U.S.C. § 552).

7. A record in this system of records may be disclosed, as routine use, to a contractor of the Department having need for the information in the performance of the contract, but not operating a system of records within the meaning of 5 U.S.C. § 552a(m).

8. A record from this system of records may be disclosed, as routine use, to the Administrator, General Services, or his designee, during an inspection of records conducted by GSA as part of that agency's responsibility to recommend improvements in records management practices and programs, under authority of 44 U.S.C. § 2904 and 2906. Such disclosure shall be made in accordance with the GSA regulations governing inspection of records for this purpose, and any other relevant (i.e. GSA or Commerce) directive. Such disclosure shall not be used to make determinations about individuals.

9. A record in this system of records may be disclosed, as a routine use, to appropriate agencies, entities, and persons when (1) it is suspected or determined that the security or confidentiality of information in the system of records has been compromised; (2) the Department has determined that as a result of the suspected or confirmed compromise there is a risk of harm to economic or property interests, identify theft or fraud, or harm to the security or integrity of this system or other systems or programs (whether maintained by the Department or another agency or entity) that rely upon the compromised information; and (3) the disclosure made to such agencies, entities, and persons is reasonably necessary to assist in connection with the Department's efforts to respond to the suspected or confirmed compromise and to prevent, minimize, or remedy such harm.

POLICIES AND PRACTICES FOR STORING, RETRIEVING, ACCESSING, RETAINING, AND DISPOSING OF RECORDS IN THE SYSTEM:

STORAGE:

Electronic media, backed up to tape media, using backup software with encryption enabled, and in paper.

RETRIEVABILITY:

Name, confirmation number, affiliated organization, mailing address, email address, telephone number, or Web site URL.

SAFEGUARDS:

Records and servers are located in a locked, climate controlled data centers with physical security and electronic badge access for authorized administrators.

RETENTION AND DISPOSAL:

All records shall be retained and disposed of in accordance with National Archives and Records Administration regulations (36 CFR Subchapter B— Records Retention); Departmental directives and comprehensive records schedules.

SYSTEM MANAGER(S) AND ADDRESS:

System managers are the same as stated in the System Location section above.

NOTIFICATION PROCEDURE:

Information may be obtained from: Departmental Privacy Act Officer, Office of the Secretary, U.S. Department of Commerce, 1401 Constitution Avenue NW., Suite A300, Room A326, Washington, DC 20230.

RECORD ACCESS PROCEDURES:

Requests from individuals should be addressed to the same address as stated in the Notification section above.

CONTESTING RECORD PROCEDURES:

The Department's rules for contesting the contents of records, and appealing initial determinations by the individual concerned appear in 15 CFR subpart 4B. Use address contained in the Notification section above.

RECORD SOURCE CATEGORIES:

Information in this system is provided by the individual on whom the record is maintained.

EXEMPTIONS CLAIMED FOR THE SYSTEM:

None.

Dated: May 31, 2013.
Brenda Dolan,
Departmental Freedom of Information and Privacy Act Officer.

[FR Doc. 2013-13330 Filed 6-4-13; 8:45 am]

BILLING CODE 3510-25-P